DEPARTMENT OF THE INTERIOR

National Park Service

[NPS-WASO-HAFE-22459; PPWOWMADL3, PPMPSAS1Y.TD0000 (177)]

Information Collection Request Sent to the Office of Management and Budget (OMB) for Approval; National Park Service Common Learning Portal

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB control number.

DATES: You must submit comments on or before December 27, 2016.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Mail Stop 242, Reston, VA 20192 (mail); or madonna_baucum@nps.gov (email). Please include “1024-New CLP” in the subject line of your comments. You may review the ICR online at http://www.reginfo.gov. Follow the instructions to review Department of the Interior collections under review by OMB.

FOR FURTHER INFORMATION CONTACT: To request additional information about this IC, please contact Dale Carpenter at telephone (304) 535-6401 or via email at dale_carpenter@nps.gov.

SUPPLEMENTARY INFORMATION:

I. Abstract

The legislative mandate of the National Park Service Organic Act, found at 54 U.S.C. 100101(a), 100301 et seq. is to conserve America's natural wonders unimpaired for future generations, while also making them available for the enjoyment of the visitor. Meeting this mandate requires the NPS to balance conservation with use. Maintaining a good balance requires information and limits, as well as providing effective training to those responsible for upholding this mandate. The NPS Common Learning Portal (CLP) is focused on increasing the visibility of training available to NPS employees and makes the site available to the public to allow NPS partners, retired NPS employees, and other interested persons not directly affiliated with the NPS access. The information we collect as part of the registration process for the CLP enables non-NPS persons to register and participate with others within the site. The creation of a personal profile provides those using the CLP with basic information that can be used to find others with similar jobs, learning interests or to solve learning problems. All personal information, with the exception of the person's name and email address are optional when creating the profile, and profile information may be edited or deleted at any time, except for the name and email address.

II. Data

OMB Control Number: None.

Title: National Park Service Common Learning Portal.

Service Form Number(s): None.

Type of Request: New.

Description of Respondents: Individuals.

Respondent's Obligation: Voluntary.

Frequency of Collection: One time.

Estimated Number of Annual Responses: 6,000.

Estimated Completion Time per Response: 5 minutes.

Estimated Total Annual Burden Hours: 500.

Estimated Annual Nonhour Burden Cost: None.

III. Comments

On January 15, 2016, we published in the Federal Register (81 FR 2234) a notice of our intent to request that OMB approve this information collection. In that notice, we solicited comments for 60 days, ending on March 15, 2016. We received two comments in response to that Notice.

Comment received January 15, 2016, from Jean Public: “it is my opinion that the American public/taxpayers cannot continue to provide the vast array of alleged “training” that they formerly did. I am very much in favor of a vastly reduced “training” schedule” and do not favor a common portal so that more “training” can go on. I find the endless conferences where nothing really is accomplished an dhuge hotel and travel costs are involved when Skype is available to be utgter nonsense in sending taxpayers into poverty for the ever overprivileged fat cat bloated bureaucratic employees in this agency.

we pay for their travel where they plot against the interest of the public and for their own enrichment. we pay for this out of control training costs. its time to cut the budget. its time for those who want to learn to take out a book and read it and go to the library and get copies of journals that will educate them on their nights. the extensive training costs that are mangling the taxpayer class needs to be reduced. the out of control benefits of govt employhees needs to be reduced. the spending is out of control. we cant afford it. we have 4 levels of govt to fund. its just too much. the deficits are rolling in in the trillions of dollars. start some cutting please of all these funds. This comment is for the public record. please receipt. jean publiee jeanpublic1@yahoo.com

fat cat bloated bureaucrats should have the education themselves if they want the job otherwise don't hire them in the first plac”

NPS Response/Action Taken: The NPS responded to thank Ms. Public for her comment and to explain the goal of the portal is to provide more training opportunities at reduced costs—with cost savings achieved through reductions in travel and shipping of training materials. We further explained the proposed system is designed to help reach the entire employee workforce and interested outside persons around the world. No changes were made in response to her comment.

Anonymous comment received March 4, 2016: “http://www.nps.gov/training/clp/html/index.cfm.

The above link mentions concept from CR Academy. Searching Google found this: http://learning.nps.gov/cr/join-the-commons/.

Where is the SORN for the CR Academy Web site to operate? Looks to be collecting a lot of data . . . security breach?

It also mentions it links to other systems like AD, links directly to LMS, and other Web sites . . . none of this is mentioned in the SORN.

More lies from NPS to the Public. More of the “We will do whatever we want, and ask for mercy later.” I guess it's easier to say it was “oversight” than to ask for permission.”

NPS Response/Action Taken: The CR Academy was not intended for public use and is no longer operational. The content that was available in the CR Academy Web site transferred into the CLP. We are currently working with the NPS Privacy Act Officer to develop the required Systems of Records Notice (SORN) for approval and publication by the Department of the Interior's Privacy Office. The portal will not be made available to the public until all requirements (such as compliance with the Paperwork Reduction Act and Privacy Act SORN requirements) have been met and the NPS has been granted an authority to operate (ATO) by the NPS Chief Information Officer.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: November 21, 2016.
Madonna L. Baucum,
Information Collection Clearance Officer, National Park Service.

[FR Doc. 2016-28370 Filed 11-23-16; 8:45 am]

BILLING CODE 4312-52-P